DEPARTMENT OF ENERGY

Energy Information Administration

Agency Information Collection Proposed Extension

AGENCY: U.S. Energy Information Administration (EIA), Department of Energy (DOE).

ACTION: Notice and request for comments.

SUMMARY: EIA invites public comment on the proposed three year extension, with changes, of the Natural Gas Data Collection Program, as required under the Paperwork Reduction Act of 1995. The surveys covered by this request include:

Form EIA-176—Annual Report of Natural and Supplemental Gas Supply and Disposition;

Form EIA-191—Monthly Underground Natural Gas Storage Report;

Form EIA-191L—Monthly Liquefied Natural Gas Storage Report;

Form EIA-757—Natural Gas Processing Plant Survey;

Form EIA-857—Monthly Report of Natural Gas Purchases and Deliveries to Consumers;

Form EIA-910—Monthly Natural Gas Marketer Survey; and

Form EIA-912—Weekly Natural Gas Storage Report.

The Natural Gas Data Collection Program provides information on natural gas production, underground storage, supply, processing, transmission, distribution, and consumption by sector within the United States.

DATES: EIA must receive all comments on this proposed information collection no later than June 29, 2020. If you anticipate any difficulties in submitting your comments by the deadline, contact the person listed in the ADDRESSES section of this notice as soon as possible.

ADDRESSES: Submit comments electronically to michael.kopalek@eia.gov or mail comments to Michael Kopalek, U.S. Energy Information Administration, 1000 Independence Avenue SW, EI-25, Washington, DC 20585.

FOR FURTHER INFORMATION CONTACT: If you need additional information, contact Michael Kopalek, U.S. Energy Information Administration, telephone (202) 586-4001, or by email at michael.kopalek@eia.gov. The forms and instructions are available on EIA's website at www.eia.gov/survey/.

SUPPLEMENTARY INFORMATION: This information collection request contains:

(1) OMB No.: 1902-0175;

(2) Information Collection Request Title: Natural Gas Data Collection Program;

(3) Type of Request: Three-year extension with changes;

(4) Purpose: The surveys included in the Natural Gas Data Collection Program collect information on natural gas underground storage, supply, processing, transmission, distribution, consumption by sector, and consumer prices. The data collected supports public policy analyses and produce estimates of the natural gas industry. The statistics generated from these surveys are published on EIA's website (http://www.eia.gov) and are used in various EIA information products, including the Weekly Natural Gas Storage Report (WNGSR), Natural Gas Monthly (NGM), Natural Gas Annual (NGA), Monthly Energy Review (MER), Short-Term Energy Outlook (STEO), Annual Energy Outlook (AEO), and Annual Energy Review (AER).

(4a) Proposed Changes to Information Collection:

Form EIA-176—Annual Report of Natural and Supplemental Gas Supply and Disposition

Form EIA-176 collects data on natural, synthetic, and other supplemental gas supplies, their disposition, and certain revenues by state. EIA proposes to modify the survey instructions to explicitly include “producers of renewable natural gas or biogas, including landfill collection facilities, agricultural digesters, and wastewater treatment facilities.” EIA seeks to add producers of renewable natural gas and biogas as respondents to Form EIA-176 because these facilities produce and consume gas in electric power generation, vehicle fuel, and other applications and are in scope for the reporting frame.

Form EIA-191—Monthly Underground Natural Gas Storage Report

Form EIA-191 collects data on the operations of all active underground storage facilities. The name of the survey will change from Monthly Underground Gas Storage Report to Monthly Underground Natural Gas Storage Report.

Form EIA-191L—Monthly Liquefied Natural Gas Storage Report

EIA proposes to add a new survey, Form EIA-191L, Monthly Liquefied Natural Gas Storage Report to collect natural gas inventory storage data from approximately 90 operators of liquefied natural gas (LNG) facilities. Form EIA-191L is a shorter version of Form EIA-191 and will collect the same natural gas data as Form EIA-191 except it will not collect information on base gas, working gas, field type, and facility type.

Form EIA-757—Natural Gas Processing Plant Survey

Form EIA-757 collects information on the capacity, status, and operations of natural gas processing plants, and monitors their constraints to natural gas supplies during catastrophic events, such as hurricanes. Schedule A of Form EIA-757 collects baseline operating and capacity information from all respondents on a triennial basis. Schedule B is used on an emergency standby basis and is activated during natural disasters or other energy disruptive events. Schedule B collects data from a sample of respondents in the affected areas. There are no proposed changes to Form EIA-757.

Form EIA-857—Monthly Report of Natural Gas Purchases and Deliveries to Consumers

Form EIA-857 collects data on the quantity and cost of natural gas delivered to distribution systems and the quantity and revenue of natural gas delivered to consumers by end-use sector, on a monthly basis by state. There are no proposed changes to this survey.

Form EIA-910—Monthly Natural Gas Marketer

Form EIA-910 collects information on natural gas sales from marketers in selected states that have active consumer choice programs. EIA proposes to increase the number of respondents to this survey due to the increased number of natural gas market participants.

Form EIA-912—Weekly Natural Gas Storage Report

Form EIA-912 collects information on weekly inventories of natural gas in underground storage facilities. LNG storage capacity increased 28% from 2008 to 2018, driven by growth of LNG activity at marine terminals. EIA proposes to collect aboveground storage stocks from approximately five marine terminals that import or export LNG. The name of the survey will change from Weekly Underground Natural Gas Storage Report to Weekly Natural Gas Storage Report.

(5) Annual Estimated Number of Survey Respondents: 3,645;

Form EIA-176 consists of 2,200 respondents;

Form EIA-191 consists of 145 respondents;

Form EIA-191L consists of 90 respondents;

Form EIA-757 Schedule A consists of 600 respondents

Form EIA-757 Schedule B consists of 20 respondents;

Form EIA-857 consists of 330 respondents;

Form EIA-910 consists of 160 respondents;

Form EIA-912 consists of 100 respondents.

(6) Annual Estimated Number of Total Responses: 16,487.

(7) Annual Estimated Number of Burden Hours: 57,012.

(8) Annual Estimated Reporting and Recordkeeping Cost Burden: $4,568,942 (57,012 burden hours times $80.14 per hour). EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on April 20th, 2020.
Thomas Leckey,
Assistant Administrator for Energy Statistics, U.S. Energy Information Administration.

[FR Doc. 2020-08895 Filed 4-27-20; 8:45 am]

BILLING CODE 6450-01-P